DEPARTMENT OF THE INTERIOR

Office of the Secretary

Blackstone River Valley National Heritage Corridor Commission; Notice of Meeting

Notice is hereby given in accordance with Section 552b of Title 5, United States Code, that a meeting of the John H. Chafee Blackstone River Valley National Heritage Corridor Commission will be held on Friday, May 18, 2007.

The Commission was established pursuant to Public Law 99-647. The purpose of the Commission is to assist Federal, State and local authorities in the development and implementation of an integrated resource management plan for those lands and waters within the Corridor.

The meeting will convene on May 18, 2007 at 9 a.m. at Blackstone Public Library located at 86 Main Street, Blackstone, MA for the following reasons:

1. Approval of Minutes.

2. Chairman's Report.

3. Executive Director's Report.

4. Financial Budget.

5. Public Input.

It is anticipated that about twenty-five people will be able to attend the session in addition to the Commission members.

Interested persons may make oral or written presentations to the Commission or file written statements. Such requests should be made prior to the meeting to: Thomas E. Ross, Acting Executive Director, John H. Chafee, Blackstone River Valley National Heritage Corridor Commission, One Depot Square, Woonsocket, RI 02895, Tel.: (401) 762-0250.

Further information concerning this meeting may be obtained from Thomas E. Ross, Acting Executive Director of the Commission at the aforementioned address.

Thomas E. Ross,
Acting Executive Director, BRVNHCC.

[FR Doc. E7-6476 Filed 4-5-07; 8:45 am]

BILLING CODE 4310-RK-P